NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (#66) (VIRTUAL).

Date/Time: May 23, 2016: 1:00 p.m. to 2:00 p.m. EDT.

Place: National Science Foundation 4201 Wilson Blvd., Arlington, VA 22230. (Virtual).

Type of Meeting: CLOSED.

Contact Person: Eduardo Misawa, National Science Foundation, 4201 Wilson Boulevard, Suite 505, Arlington, Virginia 22230; Telephone: 703/292-8300.

Purpose of Meeting: To provide advice, recommendations and counsel on major goals and policies pertaining to mathematical and physical sciences programs and activities.

Agenda

Monday, May 23, 2016 1:00 p.m.-2:00 p.m. EDT

1:00-1:05 Meeting opening, FACA briefing

1:05-2:00 Discussion on follow-up on Particle Physics Project Prioritization Panel (P5) report

2:00 Adjourn

Reason for Closing: The early public discussion of federal government's proposed response to the P5 report may significantly frustrate implementation of the proposed action. These matters are exempt under 5 U.S.C. 552b(c), (9) of the Government in the Sunshine Act.

Dated: May 11, 2016.
Crystal Robinson,
Committee Management Officer.

[FR Doc. 2016-11566 Filed 5-16-16; 8:45 am]

BILLING CODE 7555-01-P